DEPARTMENT OF AGRICULTURE

Grain Inspection, Packers and Stockyards Administration

Correction for the Cairo, IL and Belmond, IA Areas

AGENCY: Grain Inspection, Packers and Stockyards Administration, USDA.

ACTION: Notice and correction.

SUMMARY: The U.S. Department of Agriculture, Grain Inspection, Packers and Stockyards Administration (GIPSA), published a Federal Register Notice on December 28, 2012, announcing the opportunity for Designation for the Cairo, IL and Belmond, IA Areas. The Notice incorrectly omitted grain elevators assigned inside and/or outside of the geographical areas.

ADDRESSES: Eric J. Jabs, Chief, USDA, GIPSA, FGIS, QACD, QADB, 10383 North Ambassador Drive, Kansas City, MO 64153

FOR FURTHER INFORMATION CONTACT: Eric J. Jabs, 816-659-8408 or Eric.J.Jabs@usda.gov.

SUPPLEMENTARY INFORMATION: The Federal Register Notice published on December 28, 2012 for designation in the Cairo, IL and Belmond, IA areas incorrectly omitted grain elevators assigned inside and/or outside of the geographical areas. The Notice provided that applications and comments were to be received by January 28, 2013.

Correction

In the Federal Register Notice published on December 28, 2012 in FR Doc. 2012-76454, in the first column, the “Areas Open for Designation” “Cairo” paragraph is hereby corrected to include:

The following grain elevator is not part of this geographic area assignment and is assigned to: Midsouth Grain Inspection Service: Cargill, Inc., Tiptonville, Lake County, Tennessee.

Correction

In the Federal Register Notice published on December 28, 2012 in FR Doc. 2012-76454, in the second column, the “Areas Open for Designation” “D.R. Schaal” paragraph is hereby corrected to include:

The following grain elevators are not part of this geographic area assignment and are assigned to: Central Iowa Grain Inspection Service, Inc.: Agvantage F.S., Chapin, Franklin County and Five Star Coop, Rockwell, Cerro Gordo County, Iowa; Sioux City Inspection and Weighing Service Company: Maxyield Coop, Algona, Kossuth County; Stateline Coop, Burt, Kossuth County; Gold-Eagle, Goldfield, Wright County; and North Central Coop, Holmes, Wright County, Iowa.

Authority: 7 U.S.C. 71-87k.

Larry Mitchell,
Administrator, Grain Inspection, Packers and Stockyards Administration.

[FR Doc. 2013-17444 Filed 7-19-13; 8:45 am]

BILLING CODE 3410-KD-P